DEPARTMENT OF THE INTERIOR

Bureau of Reclamation

Notice of Recreation User Fee for Tours at Glen Canyon Dam

AGENCY: Bureau of Reclamation, Interior.

ACTION: Notice of Recreation User Fee for Tours at Glen Canyon Dam, Coconino County, Arizona.

SUMMARY: The Bureau of Reclamation (Reclamation) will begin charging a recreation user fee to take the guided tour of Glen Canyon Dam and Powerplant. Reclamation has determined that the new fee is reasonable and appropriate to specifically offset at least, in part, increased costs associated with public visitation to the Carl Hayden Visitor Center. The Visitor Center, located 700 feet above the Colorado River overlooking Glen Canyon Dam and Bridge, accommodates about one million visitors each year. The Visitor Center is jointly operated by Reclamation and the National Park Service.

The new fee will initially be $5.00 per adult with a reduced fee schedule for certain groups as follows: seniors (age 62 and over) will be $4.00, children ages 7-16 will be $2.50, members of the U.S. military will be $4.00, and school groups will be $0.50 per person. There will be no fee charged for children six years of age and under. These fees will be reviewed and adjusted, as appropriate, in subsequent years.

DATES: The new recreation user fee for tours at Glen Canyon Dam will become effective on Monday, January 5, 2009.

FOR FURTHER INFORMATION CONTACT: Ms. Kay Cowan, Administrative Officer, Bureau of Reclamation, Glen Canyon Field Division, Page, Arizona, at (928) 645-0403.

SUPPLEMENTARY INFORMATION: The Glen Canyon Natural History Association, a non-profit educational organization, in cooperation with Reclamation, provides guided tours through Glen Canyon Dam on a year-round basis. Tours are approximately 45 minutes long and are limited to 20 persons per tour (including infants and children). Before the scheduled tour, each person or party must register at the reservation desk located inside the Visitor Center. Group tours are available for large parties including schools, travel clubs, universities, and other organizations. Group tours are limited to 40 persons per tour and reservations must be made in advance. For additional information about tours at Glen Canyon Dam, you may contact the Glen Canyon Natural History Association Tour Program at (928) 608-6072.

The Reclamation Recreation Management Act of 1992 (Title XXVIII, Pub. L. 102-575, Sec. 2805) gives Reclamation the authority to charge a recreation user fee for public tours at Glen Canyon Dam. Fees collected from the dam tours will be deposited in the Basin Fund account as directed by the Colorado River Storage Project Act of 1956.

Dated: September 18, 2008.
Larry Walkoviak,
Regional Director, Upper Colorado Region.

[FR Doc. E8-23804 Filed 10-7-08; 8:45 am]

BILLING CODE 4310-MN-P